DEPARTMENT OF ENERGY

Federal Energy Regulatory Commission

[Docket No. EL01-66-000]

Idaho Power Company, Complainant, v. Bonneville Power Administration Respondent; Notice of Complaint

April 23, 2001.

Take notice that on April 20, 2001, Idaho Power Company (Idaho Power) tendered for filing a Complaint against Bonneville Power Administration (BPA).

In its Complaint, Idaho Power alleges that BPA violated section 18.8 of its Open Access Transmission Tariff by refusing to offer and grant Idaho Power partial interim transmission service in response to a two month short-term firm transmission request that could not be satisfied in its entirety. The service requested was to commence on May 1, 2001. Idaho Power requests that the Commission order BPA to immediately offer and grant Idaho Power partial interim service in response to its request.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before April 27, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before April 27, 2001. Comments, protests and interventions may be filed electronically via the internet in lieu of paper. See, 18 CFR 385.2001(a)(1)(iii) and the instructions on the Commission's web site at http://www.ferc.fed.us/efi/doorbell.htm.

David P. Boergers,
Secretary.

[FR Doc. 01-10478 Filed 4-26-01; 8:45 am]

BILLING CODE 6717-01-M